DEPARTMENT OF ENERGY

Federal Energy Regulatory Commission

Combined Notice of Filings

Take notice that the Commission has received the following Natural Gas Pipeline Rate and Refund Report filings:

Filings Instituting Proceedings

Docket Numbers: RP25-220-000.

Applicants: UGI Mt. Bethel Pipeline Company, LLC.

Description: Annual Report of Operational Purchases and Sales of UGI Mt. Bethel Pipeline, LLC.

Filed Date: 11/26/24.

Accession Number: 20241126-5223.

Comment Date: 5 p.m. ET 12/9/24.

Docket Numbers: RP25-221-000.

Applicants: UGI Sunbury, LLC.

Description: Annual Report of Operational Purchases and Sales of UGI Sunbury, LLC.

Filed Date: 11/26/24.

Accession Number: 20241126-5224.

Comment Date: 5 p.m. ET 12/9/24.

Docket Numbers: RP25-222-000.

Applicants: El Paso Natural Gas Company, L.L.C.

Description: § 4(d) Rate Filing: Negotiated Rate Agreements Update (Sempra Dec 2024) to be effective 12/1/2024.

Filed Date: 11/26/24.

Accession Number: 20241126-5246.

Comment Date: 5 p.m. ET 12/9/24.

Docket Numbers: RP25-223-000.

Applicants: El Paso Natural Gas Company, L.L.C.

Description: § 4(d) Rate Filing: Negotiated Rate Agreement Update (Conoco Dec 2024) to be effective 12/1/2024.

Filed Date: 11/26/24.

Accession Number: 20241126-5250.

Comment Date: 5 p.m. ET 12/9/24.

Docket Numbers: RP25-224-000.

Applicants: Total Peaking Services, L.L.C.

Description: Tariff Amendment: Notice of Cancellation to be effective 12/1/2024.

Filed Date: 11/26/24.

Accession Number: 20241126-5278.

Comment Date: 5 p.m. ET 12/9/24.

Docket Numbers: RP25-225-000.

Applicants: Colorado Interstate Gas Company, L.L.C.

Description: § 4(d) Rate Filing: CIG Qrtly LUF True-up Nov 2024 to be effective 1/1/2025.

Filed Date: 11/26/24.

Accession Number: 20241126-5326.

Comment Date: 5 p.m. ET 12/9/24.

Docket Numbers: RP25-226-000.

Applicants: Gulf Shore Energy Partners, LP.

Description: § 4(d) Rate Filing: Gulf Shore Energy Partners LP Limited Section 4 Filing to be effective 12/1/2024.

Filed Date: 11/26/24.

Accession Number: 20241126-5327.

Comment Date: 5 p.m. ET 12/9/24.

Docket Numbers: RP25-227-000.

Applicants: Iroquois Gas Transmission System, L.P.

Description: § 4(d) Rate Filing: 11.27.24 Negotiated Rates—Emera Energy Services, Inc. R-2715-103 to be effective 12/1/2024.

Filed Date: 11/27/24.

Accession Number: 20241127-5032.

Comment Date: 5 p.m. ET 12/9/24.

Docket Numbers: RP25-228-000.

Applicants: Gas Transmission Northwest LLC.

Description: Compliance filing: Annual Fuel Charge Adjustment 2024 Report to be effective N/A.

Filed Date: 11/27/24.

Accession Number: 20241127-5052.

Comment Date: 5 p.m. ET 12/9/24.

Docket Numbers: RP25-229-000.

Applicants: Northern Natural Gas Company.

Description: § 4(d) Rate Filing: 20241127 Negotiated Rates Filing to be effective 12/1/2024.

Filed Date: 11/27/24.

Accession Number: 20241127-5068.

Comment Date: 5 p.m. ET 12/9/24.

Docket Numbers: RP25-230-000.

Applicants: El Paso Natural Gas Company, L.L.C.

Description: § 4(d) Rate Filing: Annual Fuel and L&U Filing 2025 to be effective 1/1/2025.

Filed Date: 11/27/24.

Accession Number: 20241127-5072.

Comment Date: 5 p.m. ET 12/9/24.

Docket Numbers: RP25-231-000.

Applicants: Carlsbad Gateway, LLC.

Description: § 4(d) Rate Filing: Carlsbad Gateway Non-Conforming NRA and Tariff Housekeeping to be effective 1/1/2025.

Filed Date: 11/27/24.

Accession Number: 20241127-5078.

Comment Date: 5 p.m. ET 12/9/24.

Docket Numbers: RP25-232-000.

Applicants: Chandeleur Pipe Line, LLC.

Description: Compliance filing: Chandeleur Annual FLLA Filing to be effective 1/1/2025.

Filed Date: 11/27/24.

Accession Number: 20241127-5084.

Comment Date: 5 p.m. ET 12/9/24.

Docket Numbers: RP25-233-000.

Applicants: Iroquois Gas Transmission System, L.P.

Description: § 4(d) Rate Filing: 11.27.24 Negotiated Rates—Mercuria Energy America, LLC R-7540-02 to be effective 12/1/2024.

Filed Date: 11/27/24.

Accession Number: 20241127-5103.

Comment Date: 5 p.m. ET 12/9/24.

Docket Numbers: RP25-234-000.

Applicants: Iroquois Gas Transmission System, L.P.

Description: § 4(d) Rate Filing: 11.27.24 Negotiated Rates—Vitol Inc. R-7495-22 to be effective 12/1/2024.

Filed Date: 11/27/24.

Accession Number: 20241127-5108.

Comment Date: 5 p.m. ET 12/9/24.

Docket Numbers: RP25-235-000.

Applicants: Iroquois Gas Transmission System, L.P.

Description: § 4(d) Rate Filing: 11.27.24 Negotiated Rates—Vitol Inc. R-7495-23 to be effective 12/1/2024.

Filed Date: 11/27/24.

Accession Number: 20241127-5123.

Comment Date: 5 p.m. ET 12/9/24.

Docket Numbers: RP25-236-000.

Applicants: Iroquois Gas Transmission System, L.P.

Description: § 4(d) Rate Filing: 11.27.24 Negotiated Rates—Twin Eagle Resource Management, LLC R-7300-31 to be effective 11/1/2024.

Filed Date: 11/27/24.

Accession Number: 20241127-5135.

Comment Date: 5 p.m. ET 12/9/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: November 27, 2024.
Debbie-Anne A. Reese,
Secretary.

[FR Doc. 2024-28411 Filed 12-3-24; 8:45 am]

BILLING CODE 6717-01-P